DEPARTMENT OF HOMELAND SECURITY

Coast Guard

33 CFR Part 117

[Docket No. USCG-2009-0486]

Drawbridge Operation Regulations; Passaic River, NJTRO Bridge, Harrison, NJ, Maintenance

AGENCY: Coast Guard, DHS.

ACTION: Notice of temporary deviation from regulations.

SUMMARY: The Commander, First Coast Guard District, has issued a temporary deviation from the regulation governing the operation of the New Jersey Transit Rail Operations (NJTRO) Newark-Harrison Bridge across the Passaic River, mile 5.8, at Harrison, New Jersey. The deviation is necessary to facilitate mechanical rehabilitation at the bridge. The deviation allows the bridge to remain in the closed position for four months. A two week advance notice for bridge openings will be required during the four months of construction.

DATES: This deviation is effective from July 20, 2009 through November 20, 2009.

ADDRESSES: Documents mentioned in this preamble as being available in the docket are part of docket USCG-2009-0486 and are available online at http://www.regulations.gov, selecting the Advanced Docket Search option on the right side of the screen, inserting USCG-2009-0001 in the docket ID box, pressing enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Joe Arca, Project Officer, First Coast Guard District, telephone (212) 668-7165, joe.m.arca@uscg.mil. If you have questions on viewing the docket, call Renee V. Wright, Program Manager, Docket Operations, telephone 202-366-9826.

SUPPLEMENTARY INFORMATION: The owner of the bridge, New Jersey Transit Rail Operation, requested this temporary deviation to facilitate mechanical and structural rehabilitation construction at the bridge. The NJTRO Bridge across the Passaic River at mile 5.8, at Harrison, New Jersey, has a vertical clearance in the closed position of 15 feet at mean high water and 20 feet at mean low water. The Drawbridge Operation Regulations are listed at 33 CFR 117.739(g).

Under this temporary deviation the NJTRO Bridge may remain in the closed position for four months from July 20, 2009 through November 20, 2009, to facilitate rehabilitation construction at the bridge. The bridge shall open for vessel traffic upon two weeks notice by calling Mr. Harold Mullcavey, at 732-620-5354 during daytime business hours, 7 a.m. to 5 p.m., Monday through Friday. Vessels able to pass under the closed draw may do so at any time.

In accordance with 33 CFR 117.35(e), the bridge must return to its regular operating schedule immediately at the end of the designated time period. This deviation from the operating regulations is authorized under 33 CFR 117.35.

Dated: June 11, 2009.
Gary Kassof,
Bridge Program Manager, First Coast Guard District.

[FR Doc. E9-14944 Filed 6-24-09; 8:45 am]

BILLING CODE 4910-15-P